DEPARTMENT OF THE INTERIOR

Bureau of Indian Affairs

[234A2100DD/AAKC001030/A0A501010.999900]

Indian Child Welfare Act (ICWA) Grants to Indian Organizations for Off-Reservation Indian Child and Family Service Programs

AGENCY: Office of Indian Services, Bureau of Indian Affairs.

ACTION: Solicitation of proposals.

SUMMARY: The Secretary of the Interior (Secretary), through the Bureau of Indian Affairs (BIA), is soliciting grants from Off -Reservation Indian Organizations to establish and operate off-reservation Indian child and family service programs, which provide services intended to stabilize Indian families and Tribes, prevent the breakup of Indian families, and ensure that the permanent removal of an Indian child from the custody of his/her Indian parent or Indian custodian is a last resort.

DATES: Grant application packages must be submitted no later than 5 p.m. Eastern Daylight Time, September 15, 2023. The BIA will not consider proposals received after this time and date.

ADDRESSES: Grant application packages must be submitted through Grants.gov. For information on how to apply for grants in Grants.gov, see the instructions available at: https://www.grants.gov/help/html/help/Applicants/HowToApplyForGrants.htm.

FOR FURTHER INFORMATION CONTACT: If you have questions regarding the application process, please contact Jo Ann Metcalfe, Grant Officer, via email at jo.metcalfe@bia.gov or phone at (703) 390-6410.

SUPPLEMENTARY INFORMATION: The BIA is the Federal agency charged with administering ICWA funding to federally recognized Tribes. In FY 2023, the Congress appropriated $2.0 million to fund off-reservation programs authorized by section 202 of the ICWA (25 U.S.C. 1932). The BIA will distribute the FY 2023 funding through the competitive grant process outlined in 25 CFR 23.31 through 23.35, subpart D, Grants to Off-Reservation Indian Organizations for title II Indian Child and Family Services Programs (subject to fund availability), to assist Indian Organizations in establishing and operating off-reservation Indian child and family service programs, which may include, but are not limited to:

(1) a system for regulating, maintaining, and supporting Indian foster and adoptive homes, including a subsidy program under which Indian adoptive children may be provided support comparable to that for which they would be eligible as Indian foster children, taking into account the appropriate State standards of support for maintenance and medical needs;

(2) the operation and maintenance of facilities and services for counseling and treatment of Indian families and Indian foster and adoptive children;

(3) family assistance, including homemaker and home counselors, day care, afterschool care, and employment, recreational activities, and respite care; and

(4) guidance, legal representation, and advice to Indian families involved in child custody proceedings, 25 U.S.C. 1932.

I. Authority

II. Eligibility

III. Categories of Available Funding

IV. Funding Limitations

V. Proposal Application Guidelines

A. Background

B. Items To Consider Before Preparing an Application, Funding Limitations, 2-Year Timeframes,

C. Mandatory Components and Requirements for Applications

D. Submission of Application in Digital Format

E. Categories of Funding, Review Criteria and Evaluation

F. Transfer of Funding and Transfer of Funds

G. Reporting Requirements for Award Recipients

H. Additional Information

I. Authority

This ICWA grant is funding that is provided through non-recurring appropriations made by the Congress in its annual appropriations to the BIA. These funds are provided on a year-to-year basis and may or may not be provided in future years. In FY 2023, Congress appropriated a total of $2.0 million for off-reservation programs authorized by section 202 of ICWA (25 U.S.C. 1932), which reflects an increase of $500,000.00 above the FY 2022 funding level. The BIA will be distributing a total of $2.0 million to eligible Indian Organizations under this grant solicitation. Additional authorizing statutes for the program include:

• Section 202 of ICWA (25 U.S.C. 1932)

• Public Law 93-638, ISDEAA of 1975, as amended

• Public Law 101-630, The Indian Child Protection and Family Violence Prevention Act

• Public Law 114-165, Native American Children's Safety Act (NACSA) of 2016

• 25 CFR part 23, ICWA

• 25 U.S.C. 1901 et seq., ICWA of 1978

• 2 CFR, Grants and Agreements, Volume 1, 1-299

• 43 CFR part 18 (31 U.S.C. 1352) New Restrictions on Lobbying

• Indian Child Welfare Act Title II Authorities

II. Eligibility

This solicitation contains guidelines and instructions for writing and submitting a proposal. The BIA will use a competitive evaluation process. Eligibility for funding will be limited to activities that support and are consistent with the intent and activities outlined in the Indian Child Welfare Act (ICWA) section 202 (25 U.S.C. 1932).

Authorized Tribal organizations, as defined at 25 U.S.C. 5304(l) may apply individually or as a consortium for a grant under this notice. Indian Organization, solely for purpose of eligibility for grants, means any legally established group, association, partnership, corporation, or other legal entity which is owned or controlled by Indians, or a majority (51 percent or more) of whose members are Indians. A consortium is created by an agreement or association between two or more eligible applicants who enter into an agreement to administer a grant program and to provide services under the grant to Indian residents in a specific geographical area when its administratively feasible to provide an adequate level of service within the area. An applicant may not submit more than one application nor be the beneficiary of more than one grant under this notice.

III. Categories of Available Funding

Category of funding will be under ICWA.

IV. Funding Limitations

Matching requirement(s) are voluntary. Title II of ICWA, at section 201(b), clearly encourages Tribes to seek funds from other sources to enhance the quality and scope of ICWA child and family services programs.

Award Type: Grant

Estimated Total Funding: $2,000,000

Expected Number of Grant Awards: 0-15

Award Ceiling: $200,000 per Budget period

Award Floor: $80,000 per Budget period

Anticipated Project Start Date: October 17, 2023

Anticipated Project End Date: October 16, 2025

Length of Project Period: Two Fiscal Years

Category: ICWA

Cost Sharing or Matching: No (volunteer)

V. Proposal Application Guidelines

A. Background

On January 13, 1994, Indian Affairs (IA) published in the Federal Register (59 FR 2248) regulations revising 25 CFR part 23, the rules that govern the title II ICWA grant program. The announcement converted the previous competitive ICWA grant award process to initiate a noncompetitive award system for eligible federally recognized Tribes.

In FY 1995, the eligible Tribes began to continuously access their recurring ICWA funds in the Tribal Priority Allocation (TPA) budget Sub activity section of the Tribe's budget system. The funding process managed centrally by IA for off-reservation Indian Organizations was discontinued after the conversion to the noncompetitive process for eligible federally recognized Tribes. The BIA last awarded the ICWA off-reservation grants to Indian Organizations in FY 1994. Rather, some federally recognized Tribes have contracted with off-reservation Indian Organizations, if and where needed.

In FY 2020, the Congress appropriated $1.0 million specifically to fund off-reservation programs authorized by section 202 of the ICWA (25 U.S.C. 1932). In FY 2021, the Congress allocated again $1.0 million for the ICWA, to fund off-reservation programs authorized by section 202 of the ICWA (25 U.S.C. 1932) for the second consecutive fiscal year. In FY 2022, Congress allocated $1.5 million for the ICWA, to fund off-reservation programs authorized by section 202 of the ICWA (25 U.S.C. 1932) for the third consecutive fiscal year. In FY 2023, Congress allocated 2 million, additional $500,000 for the ICWA, to fund off-reservation programs authorized by section 202 of the ICWA (25 U.S.C. 1932) for the fourth consecutive fiscal year. These are considered one-time funding for the earmark as included in the four consecutive fiscal year appropriations act.

B. Items To Consider Before Preparing an Application, Funding Limitations, 2-Year Timeframes and No-Cost Extensions

Awards are subject to available funding. The BIA's obligation under this solicitation notice is contingent on receipt of available appropriated funds. No liability on part of the U.S. Government for any payment may arise until funds are made available to the awarding officer for this grant. No liability may arise until the recipient receives notice of such availability and is confirmed in writing by the grants officer.

C. Mandatory Components and Requirements for Applications

The mandatory components, and requirements for applications identified below, must be included in the application. The required forms may be downloaded from this solicitation on grants.gov, under the “PACKAGE” tab. If the forms are unable to be downloaded from the PACKAGE tab, select the “FORMS” tab. From the FORMS dropdown menu, select the second item “SF-424 Family”. This will open the page with a table titled “SF-424 FAMILY FORMS.” From this table, download the following required forms:

• Application for Federal Assistance (SF-424)

• Budget Information for Non-Construction Programs (SF-424A)

• Key Contacts

• Project Abstract Summary

Click on the PDF letters to download each document.

The following are the required documents:

• Project Narrative

○ Executive Summary

○ Technical Summary

• Documentation of Authority to Apply

• Resume(s)

• Budget Narrative (Excel Spreadsheet with line items)

Project Narrative

The Project Narrative includes an Executive Summary and a Technical Summary. The Project Narrative must not exceed 20 pages.

Executive Summary

An Executive Summary includes an overview or an initial assessment of the project and includes a description of the specific ICWA services and activities the Indian Organization provides to Indian communities. The Executive Summary must outline the Organization's understanding of the ICWA and explain the existing working relationship with Indian child and family service programs, specifically in reference to family reunification and the prevention of Indian family breakups. This section will describe the challenges or needs faced by the communities served and how the goal/vision for this proposal will meet those needs. At a minimum, the proposal should include a description of:

• The proposed project and Tribal communities served, including geographic location, the population in the service area, and available information relevant to ICWA.

• The existing ICWA services provided to Tribes in context to readiness to exercise the project's objectives and goals. The description must identify strengths and gaps in ICWA services where relevant. Provide examples of other Tribal or Federal project and/or similar projects for which funding is being requested.

• The deliverable services that the project is expected to develop and the resources available to implement proposed project(s) to Tribes in service deliverable area.

Technical Summary

The Technical Summary is a narrative description of the program's skills and abilities, which includes the Scope of Work (SOW) outlining what will be done. This section must provide a clear link between the proposed activities provided to Tribes and need identified in the Executive Summary. It must clearly state the project's measurable goals, objectives, activities, methodology used, including culturally defined approaches, which the applicant will incorporate to achieve the identified goals and objectives. Indicate the project purpose (i.e., start up, expansion, or replacement), describe the proposed project and what it will accomplish (e.g., number of children and families it will service, service area, type of services).

• SOW: The SOW must include a detailed outline of the project(s) deliverables, timeline, and milestones that will enhance ICWA services provided to children and families. The SOW explains how the applicant will measure and/or track its objectives and outcomes of the proposed project (performance measures), and why the methods utilized will achieve the stated goals. Tools may include quarterly performance reports and other data collected during reporting period.

• Deliverables: Is the result that clearly defines each item(s) that the project will deliver. Whether it is a product or a service, state the reason why the task/item is being executed in the project for the customer—Tribe.

• Timeline: Is the road map that outlines the project from start to finish. The document delineates the major phases across the schedule of the project's duration. Milestones: Breaks down the timeline into manageable parts or tasks. This document should help to monitor the project's progress and assist the planned schedule. Key milestones, such as, project kickoffs, meetings, hand offs, and how proposed project activities and services will reach the population identified.

• Performance Measures and Outcomes: Is the process that the applicant will use to collect data and analyze the services provided to the organization, individual, group, or system (e.g., number of Indian children and families supported in family reunification foster and adoptive homes).

Documentation of Authority To Apply

Applicants applying as an Indian Organizations must submit documentation of authority that demonstrates Tribal support (e.g., a Tribal resolution, letters of support, cooperative service agreements). The documentation must give the Tribal Organization authority to apply for the grant and contain authorized signature(s) by the application due date. Applicants applying as a Tribal consortium must submit documentation of authority to apply from each Tribe and include a copy of the bylaws or other governance documents that allow the consortium's action with the application. This documentation must give the consortium authority to apply for the grant, contain authorized signature(s), and be submitted by the application due date.

Resume(s)

Provide the resumes (with areas of expertise) of key consultants and personnel, and the nature of their involvement, including their relationship to the applicant as Tribal staff, consultant, subcontractor, etc. This information may be included as an attachment to the application and will not be counted towards the 20-page limitation.

Budget Narrative

Provide a budget narrative that describes separately all major line-item grant expenditures such as personnel, fringe benefits, travel, equipment, supplies, direct client services, contractual, indirect costs, or other major expenditures. Budget narrative must correlate to the project scope of work and clearly break the project down into defined tasks with an associated budget line item for each task. Include justification for each task and identify cost.

Critical Information Page

Applicants must provide proof of its Indian Organization or consortium status as defined in Section II of this notice. Applicants must include a list and the contact information of the Indian Organization Project Lead(s) and personnel. The list must include those individuals that will oversee the project work, make authorized decisions, and is responsible for submitting the quarterly, annual, and the final reports, plus quarterly financial status reports. The designated lead personnel may not be a consultant. The designated Indian Organization Project Lead(s) is authorized to make decisions on the grant activities.

a. Federal Unique Entity Identifier (UEI) Number

Each Indian Organization must verify that it is actively registered in SAM.gov (https://sam.gov/SAM), and has a Federal UEI number.

b. Active ASAP Enrollment with the BIA

Each Indian Organization must be actively enrolled with the BIA in the Automated Standard Application for Payment (ASAP) system to receive the grant. This information must be provided in the critical information page.

D. Submission of Application in Digital Format

Submission of a complete application in digital form to grants.gov is required. For instructions, see https://www.grants.gov/help/html/help/Applicants/HowToApplyForGrants.htm. In very limited circumstances, the BIA may accept a non-digital application. Please contact the BIA at least a week prior to the submission deadline for approval. The BIA will not accept or review any incomplete applications. Please use descriptive file names to ensure the BIA quickly locates specific components of the application.

E. Categories of Funding, Review Criteria and Evaluation

Applications will be evaluated for responsiveness to ICWA components under each Funding Category. Review criteria and the scoring system for each Category are identified below.

Project Description and Scoring System

Executive Summary (30 points): The Committee will evaluate the applications based on the clarity and content outlined in the Project Narrative [Executive and Technical Summaries, section VIII, B (1)]. The Committee will assess if the application:

• Demonstrates an understanding of the ICWA.

• Describes examples of other Federal project and/or similar projects for which funding is being requested.

• Describes the current Indian population served and if it operates existing child and family service programs, application contents emphasize the prevention of Indian family breakups and how project(s) will complement these existing services.

• Describes how the applicant understands the challenges faced by the community and how the proposed project clearly defines how it will address these challenges.

• Offers a clearly defined description of the project for the service area that describes service population and geographic area.

• Describes specific services and/or activities with recent baseline data with plans that address gaps in services identified.

Project Objective, Technical Description, and Scope of Work (25 Points)

This criterion will evaluate the project objective, technical description, and scope of work as described in section VIII, B (2). The clarity of the described work and the appropriateness of the project in terms of meeting the intent and goals of the grant. The Committee will assess if the application:

• Includes activities, in the proposed project, that directly relates to the intent and provisions of the grant.

• Offers examples that reflect an understanding of the social problems or issues affecting the resident Indian client population (including cultural issues) that the applicant proposes to serve and provides a clear link between the proposed activities and the needs identified of the population to be served.

• Includes the technical barriers created by existing public and private programs, for example, availability of transportation, distance between community to be served, specific needs of the Indian clientele and how the proposed project will reach population in the service area identified.

• Presents measurable goals, objectives, and a timeline for implementation of proposed projects that are clearly defined and describes how it will measure its progress in achieving projects goals and objectives.

• Includes documentation that the Indian Organization or consortium has authority to apply for the grant, is legally established, and submits letters of support from the Tribe(s).

Deliverable Products (25 Points)

The Committee will evaluate the extent to which the expected outcome and budget proposal meets the applicant's stated goals, based on the deliverables described below. The Committee will assess if the application:

• Presents a narrative that includes a needs assessment, quantitative data, and demographics of the Indian population to be served.

• Estimates the number of Indian people or families served based on available data.

• Offers a narrative description of the program; the program goals and objectives are stated in measurable terms.

• Includes culturally defined approaches and/or procedures by which the applicant will accomplish the identified goals and objectives.

• Explains the internal monitoring process or describes how it will measure the project's progress and accomplishments.

• Provides a budget narrative that separately describes all major line-item grant expenditures, and it correlates to the project scope of work.

• Clearly breaks the project down into defined tasks with an associated budget line item for each task; includes justification for each task and costs identified.

• Has a budget that includes how the cost of goods and services are determined and how they will fulfill the objectives of the project.

• Has a reasonable budget, based on the resources needed to implement the project(s) in the identified specific geographic location.

Key Personnel and Administration (20 Points)

The BIA, Director will approve all final award selections. The BIA will notify all award applicants in writing.

The Committee will evaluate key personnel experience working with Tribal communities on ICWA related matters. The Committee will assess how the Indian Organizations performs administrative functions and produces quality project deliverables. The Committee will assess if the application:

• Provides proof of its Indian Organization or consortium status.

• Includes resumes that demonstrate key personnel have ICWA experience, and position descriptions.

• Submitted the Federal Assistance form (SF-424).

• Includes a UEI Number.

• Includes certification that the bookkeeping and accounting procedures used meet existing Federal standards for grant administration and management.

• Includes verification, in accordance with 25 U.S.C. 3201 et seq. (Pub. L. 101-630), title IV, the Indian Child Protection and Family Violence Prevention Act, that character and background investigations of key personnel is or will be conducted.

• Demonstrates compliance with a Drug-Free Workplace.

• Demonstrates financial management capability by providing its most recent audit report.

F. Transfer of Funding and Transfer of Funds

The BIA's obligation under this solicitation is contingent upon receipt of Congressionally appropriated funds. No liability on the part of the U.S. Government for any payment may arise until funds are made available to the Grants Officer for this award until recipient receives notice of such availability, to be confirmed in writing by the Grant Officer. All payment under this agreement will be made by the U.S. Government by electronic funds transfer (through ASAP). All payments will be deposited in accordance with the banking information designated for the applicant in the System for Award Management (SAM).

G. Reporting Requirements for Award Recipients

During the life of a grant project, deliverables will include a semi-annual project/technical progress updates, and a final written report addressing components outlined in the Scope of Work. Semiannual written progress and financial status reports are to be submitted to the BIA using the GrantSolutions.gov portal 30 days following the end of each six month period of performance. Reporting dates will be established by the BIA's Grants Officer in GrantSolutions.gov during the awarding process and will coincide with the Federal fiscal year calendar.

The semiannual reports consist of two parts: (1) a narrative report: a summary of events, accomplishments, problems and results during the year, and (2) a financial report SF-425: a list in of expenditures during the quarter, how the funds were spent, and the amount remaining. The project monitor will access the reports in the Grant Solutions system.

Delivery Schedules

The Tribal awardees will deliver all products and data generated under the project to the BIA via the GrantSolutions.gov portal within 120 days after project completion, as required by the signed agreement, and may withhold sensitive information (e.g., proprietary Tribal data or Traditional Knowledge). Such information may be redacted at the Tribal government's discretion because information in the possession of the BIA or submitted to the BIA throughout the process, including final work product, constitutes Government records and may be subject to the disclosure to third parties under the Freedom of Information Act (FOIA), 5 U.S.C. 552, and the Department of the Interior's FOIA regulations at 43 CFR part 2, unless a FOIA exemption or exception applies or other provisions of law protect the information.

Digital Format Requirements for Reports and Data

The BIA requires that all deliverable products and reports be uploaded to GrantSolutions.gov. Reports can be provided in Microsoft Word or Adobe Acrobat PDF formats. Spreadsheet data can be provided in Microsoft Excel, Microsoft Access, or Adobe PDF formats. All vector figures should be converted to PDF format. Raster images can be provided in PDF, JPEG, TIFF, or any of the Windows metafile formats.

Number of Copies

The submitted proposal should account for the requirement that all final products be delivered in the format described above, one digital copy.

H. Additional Information

DUNS Registration

Request a DUNS number online at http://fedgov.dnb.com/webform. U.S.-based entities may also request a DUNS number by telephone by calling the Dun & Bradstreet Government Customer Response Center, Monday-Friday, 7 a.m. to 8 p.m. CST at the following numbers:

U.S. and U.S Virgin Islands: 1-866-705-5711

Alaska and Puerto Rico: 1-800-234-3867 (Select Option 2, then Option 1)

For Hearing Impaired Customers Only call: 1-877-807-1679 (TTY Line)

Once assigned a DUNS number and UEI, entities are responsible for maintaining up-to date information with Dun & Bradstreet.

Entity Registration in SAM and Printing Confirmation

Registration in System for Award Management (SAM) is required and online at http://www.sam.gov/. Once registered in SAM with BIA, entities must renew and revalidate their SAM registration at least every 12 months from the date previously registered. Entities are strongly urged to revalidate their registration as often as needed to ensure that their information is up to date and in sync with changes that may have been made to their UEI and IRS information. For SAM assistance, call: 1-866-606-8220. If the tribe's SAM registration name is not exactly the same as the legal name on BIA's list, the tribal organization should contact their local Procurement Technical Assistance Center (PTAC) as soon as possible.

Changing a name can take several weeks. Find your local PTAC at http://www.dla.mil/HQ/SmallBusiness/PTAC.aspx. Alaska tribes may also call 1-800-478-7232.

To Print Confirmation Page

• Go to www.sam.gov.

• Click on “Search Records”.

• Click on “Quick Search” or “DUNS Number Search” or “CAGE Code Search” query boxes to enter tribe's information (any of these should work).

• Click “Search”.

• If correct Entity Name and information are displayed, click “Save PDF” on right side of screen and add that to the application as the attachment for Requirement 2.

Excluded Entities

Applicant entities identified in the SAM.gov Exclusions database as ineligible, prohibited/restricted or excluded from receiving Federal awards, certain subawards, and certain Federal assistance and benefits, will not be considered for Federal funding, as applicable to the funding being requested under this Federal program.

Registration in ASAP With BIA

Although a Tribe or Indian Organization may be registered in in the ASAP already with another agency, it must be specifically enrolled with the BIA. To register in ASAP, an enrollment form must be completed and emailed to Jo Ann Metcalfe at jo.metcalfe@bia.gov. As soon as the Tribe or Indian Organization is enrolled, a user ID will be emailed to the point of contact listed on the enrollment form. Next, a password will automatically be mailed by USPS to the Tribe or Indian Organization, but you can call the ASAP Help Desk at 855-868-0151 and press 2 then 3 to reach an agent who can help to request a password via email to expedite the process. Upon receiving a password, you will then have access to your online ASAP account for setup. To complete the enrollment, call the ASAP Help Desk again and remain on the line with them while they assist you in setting up and linking the Tribe's banking information to BIA's Agency Locator Code (ALC/Region). BIA's ALC is 14200699. Once this is completed, you will receive a confirmation email and it will take the Treasury 5-10 business days to approve your ASAP enrollment with BIA. This process only needs to be done once and does not need to be regularly updated unless the individual who had the primary role for the Tribe or Tribal organization in ASAP set-up changes.

Bryan Newland,
Assistant Secretary—Indian Affairs.

[FR Doc. 2023-17194 Filed 8-10-23; 8:45 am]

BILLING CODE 4337-15-P